POSTAL SERVICE

39 CFR Part 111

Marking Requirements for Parcel Select

AGENCY: Postal Service™.

ACTION: Final rule.

SUMMARY: The Postal Service is revising Mailing Standards of the United States Postal Service, Domestic Mail Manual (DMM®) to reflect changes to the marking requirements of our Shipping Services product, Parcel Select®. On May 21, 2008, we published in the Federal Register (Volume 73, Number 99) the proposed rule describing Parcel Select marking changes. This final rule revises the effective date to October 9, 2008 (proposed rule date was September 30, 2008) when Parcel Select shippers must use one of the following markings, as appropriate, on each Parcel Select package:

• For all destination entry packages, use “Parcel Select”.

• For BMC presort entry packages, use “Parcel Select BMC Presort” or “Parcel Select BMC PRSRT”.

• For OBMC presort entry packages (Inter-BMC) packages, use “Parcel Select OBMC Presort” or “Parcel Select OBMC PRSRT”.

• For barcoded Intra-BMC and barcoded Inter-BMC packages, use “Parcel Select Barcoded” or “Parcel Select BC”.

DATES: Effective Date: October 9, 2008.

FOR FURTHER INFORMATION CONTACT: Bert Olsen at 202-268-7276.

SUPPLEMENTARY INFORMATION:

Comments

There were no comments received on the May 21, 2008 proposed rule.

The Postal Service adopts the following changes to Mailing Standards of the United States Postal Service, Domestic Mail Manual (DMM), incorporated by reference in the Code of Federal Regulations. See 39 CFR 111.1.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

* * * * *

400 Commercial Mail Parcels

* * * * *

402 Elements on the Face of a Mailpiece

* * * * *

2.0 Placement and Content of Markings

* * * * *

2.2 Parcel Select, Bound Printed Matter, Media Mail, and Library Mail Markings

2.2.1 Basic Markings

[Revise the text of 2.2.1 as follows:]

The basic required marking (e.g., “Parcel Select”, “Bound Printed Matter”, “Media Mail”, “Library Mail”) must be printed on each piece claimed at the respective price. The basic required marking must be placed in the postage area (printed or produced as part of, or directly below or to the left of, the permit imprint indicia or meter stamp or impression). Optionally, the basic required marking may be printed on the shipping address label as service indicators composed of a service icon and service banner (see Exhibit 2.2.1):

a. The service icon that identifies the marking will be a 1-inch solid black square. If the service icon is used, it must appear in the upper left corner of the shipping label.

b. The service banner must appear directly below the postage payment area and the service icon, and it must extend across the shipping label. If the service banner is used, the appropriate marking (e.g., “PARCEL SELECT”, “MEDIA MAIL”) must be preceded by the text “USPS” and must be printed in minimum 20-point bold sans serif typeface, uppercase letters, centered within the banner, and bordered above and below by minimum 1-point separator lines. There must be a 1/16-inch clearance above and below the text.

[Revise the heading of exhibit 2.2.1 as follows:]

Exhibit 2.2.1 Marking Indicator Examples

[Revise Exhibit 2.2.1 by replacing “USPS PARCEL POST” WITH “USPS PARCEL SELECT”.]

2.2.2 Parcel Select Markings

[Revise the text in 2.2.2 as follows:]

Each piece in a Parcel Select mailing must bear a price marking. Markings must appear in either the postage area described in 2.2.1 or in the address area on the line directly above or two lines above the address if the marking appears alone (when no other information appears on that line). The “Parcel Post” marking is not allowed on any Parcel Select mailpiece. The following product markings are required:

a. Destination Entry—“Parcel Select”.

b. BMC Presort—“Parcel Select BMC Presort” or “Parcel Select BMC PRSRT”.

c. OBMC Presort (Inter-BMC)—“Parcel Select OBMC Presort” or “Parcel Select OBMC PRSRT”.

d. Barcoded Intra-BMC and Barcoded Inter-BMC—“Parcel Select Barcoded” or “Parcel Select BC”.

[Delete 2.2.3 in its entirety and renumber current 2.2.4 through 2.2.7 as 2.2.3 through 2.2.6]

* * * * *

450 Parcel Select

* * * * *

455 Mail Preparation

* * * * *

1.0 General Information for Mail Preparation

* * * * *

1.8 Parcel Select Markings

[Revise text of 1.8 as follows:]

Each piece in a Parcel Select mailing must bear a price marking. Markings must appear in either the postage area described in 402.2.2.1 or in the address area on the line directly above or two lines above the address if the marking appears alone (when no other information appears on that line). The “Parcel Post” marking is not allowed on any Parcel Select mailpiece. The following product markings are required:

a. Destination Entry—“Parcel Select”.

b. BMC Presort—“Parcel Select BMC Presort” or “Parcel Select BMC PRSRT”.

c. OBMC Presort (Inter-BMC)—“Parcel Select OBMC Presort” or “Parcel Select OBMC PRSRT”.

d. Barcoded Intra-BMC and Barcoded Inter-BMC—“Parcel Select Barcoded” or “Parcel Select BC”.

* * * * *

Neva Watson,
Attorney, Legislative.

[FR Doc. E8-22075 Filed 9-22-08; 8:45 am]

BILLING CODE 7710-12-P